FEDERAL COMMUNICATIONS COMMISSION

47 CFR Chapter I

[PS Docket No. 10-92; DA 10-1357]

Effects on Broadband Communications Networks of Damage to or Failure of Network Equipment or Severe Overload

AGENCY: Federal Communications Commission

ACTION: Proposed rule; extension of reply comment date.

SUMMARY: This document revises the due date for parties to file reply comments responsive to the Notice of Inquiry in this proceeding. This action is taken in response to a request for additional time submitted by the Board of Governors of the Federal Reserve System. We find that providing the requested limited extension would be beneficial to the development of a more robust and complete record and that granting the extension of time as requested by the Federal Reserve will serve the public interest.

DATES: Reply comments are due on or before September 3, 2010.

ADDRESSES: You may submit comments, identified by PS Docket No. 10-92 and/or DA 10-1357, may be filed using: (1) The Commission's Electronic Comment Filing System (ECFS), (2) the Federal Government's eRulemaking Portal, or (3) by filing paper copies.

• Comments and reply comments may be filed electronically using the Internet by accessing the ECFS: http://fjallfoss.fcc.gov/ecfs2/ or the Federal eRulemaking Portal: http://www.regulations.gov.

• Mail: Parties who choose to file by paper can submit filings by hand or messenger delivery, by commercial overnight courier, or by first-class or overnight U.S. Postal Service mail. All filings must be addressed to the Commission's Secretary, Office of the Secretary, Federal Communications Commission. All hand-delivered or messenger-delivered paper filings for the Commission's Secretary must be delivered to FCC Headquarters at 445 12th Street, SW., Room TW-A325, Washington, DC 20554. All hand deliveries must be held together with rubber bands or fasteners. Any envelopes must be disposed of before entering the building.

• Commercial overnight mail (other than U.S. Postal Service Express Mail and Priority Mail) must be sent to 9300 East Hampton Drive, Capitol Heights, MD 20743. U.S. Postal Service first-class, Express, and Priority mail must be addressed to 445 12th Street, SW., Washington, DC 20554. Parties who choose to file by paper must file an original and four copies of each filing. Include docket number PS Docket No. 10-92 and/or DA 10-1357 in the subject line of the message.

• Parties wishing to file materials with a claim of confidentiality should follow the procedures set forth in § 0.459 of the Commission's rules. Confidential submissions may not be filed via ECFS but rather should be filed with the Secretary's Office following the procedures set forth in 47 CFR 0.459. Redacted versions of confidential submissions may be filed via ECFS.

• People with disabilities: Contact the FCC to request reasonable accommodations (accessible format documents, sign language interpreters, CART, etc.) by e-mail: FCC504@fcc.gov or phone: 202-418-0530 or TTY: 202-418-0432.

For detailed instructions for submitting comments and additional information on the notice process, see the SUPPLEMENTARY INFORMATION section of this document.

FOR FURTHER INFORMATION CONTACT: Jeffery Goldthorp, Chief, Communications Systems Analysis Division, Public Safety and Homeland Security Bureau, at 202-418-1096.

SUPPLEMENTARY INFORMATION: This is an extension of reply comment date of the Commission's Notice of Inquiry, 75 FR 26180, May 11, 2010, in PS Docket No. 10-92, DA 10-1357, adopted and released on July 22, 2010. The complete text of this document is available on the Commission's Web site at http://www.fcc.gov/headlines.html. To request materials in accessible formats for people with disabilities (Braille, large print, electronic files, audio format), send an e-mail to fcc504@fcc.gov or call the Consumer & Governmental Affairs Bureau at 202-418-0530 (voice), 202-418-0432 (tty).

Federal Communications Commission.
Jeffery Goldthrop,
Chief, Communications Systems Analysis Division, Public Safety and Homeland Security Bureau.

[FR Doc. 2010-19826 Filed 8-13-10; 8:45 am]

BILLING CODE 6712-01-P